OFFICE OF MANAGEMENT AND BUDGET

Office of Federal Financial Management; Proposed Policy on Use of a Universal Identifier by Grant Applicants

AGENCY: Office of Management and Budget.

ACTION: Notice of Proposed Requirement for Use of a Universal Identifier by Grant Applicants.

SUMMARY: The Office of Management and Budget (OMB) seeks to establish a standard means for tracking Federal grant recipients throughout the entire grant life cycle and to provide the public with a uniform business practice. Currently Federal agencies use multiple and different identifiers for the entities which apply for and receive Federal grant funds, while a single identifier is used by entities which apply for and receive Federal contracts.

The Federal Government is in the process of developing an electronic standard grant application capability, known as E-APPLY, under an E-Grants system which will require each applicant to be uniquely identified. This notice seeks comments on the proposal by OMB's Office of Federal Financial Management (OFFM) to establish a requirement for applicants to register for a Dun and Bradstreet (D&B) Data Universal Numbering System (DUNS)) number for use as the Universal Identifier needed to respond to Federal agency grant or cooperative agreement announcements. The DUNS is already in use by those entities seeking Federal contracts.

DATES: All comments on this proposal should be in writing, and must be received by December 30, 2002.

ADDRESSES: Due to potential delays in OMB's receipt and processing of mail sent through the U.S. Postal Service, we encourage respondents to submit comments electronically to ensure timely receipt. We cannot guarantee that comments mailed will be received before the comment closing date.

Electronic mail comments may be submitted to sswab@omb.eop.gov. Please include “DUNS Comments” in the subject line of the message. If including the comments as an attachment to the e-mail, identify the attachment with “DUNS Comments.” Please include your name, title, organization, postal address, telephone number, and e-mail address in the text of the e-mail message. Comments may also be submitted via facsimile to (202) 395-4915.

Comments may be mailed to Sandra R. Swab, Office of Federal Financial Management, Office of Management and Budget, Room 6025, New Executive Office Building, Washington, DC 20503.

FOR FURTHER INFORMATION CONTACT: Sandra R. Swab, Office of Federal Financial Management, Office of Management and Budget, at 202 395-5642 (direct), 202-395-3993 (main office), or via e-mail (sswab@omb.eop.gov).

SUPPLEMENTARY INFORMATION: The Federal Government is in the process of developing a government-wide electronic portal that will include grant opportunity announcement (E-FIND) and electronic application (E-APPLY) capabilities. This new system is referred to as E-Grants and is one of the 24 cross-agency electronic government (E-Gov) initiatives referred to in the President's Management Agenda.

The E-Grants system will require that a Universal Identifier be used to verify each applicant. The identifier will be used for grant status tracking purposes, as well as by the Federal agencies as a source of other business information pertaining to the applicant.

OMB expects that with the use of a Universal Identifier, the need for organizations to submit redundant data with each application and report will be significantly reduced. Agencies will be able to use the Universal Identifier to obtain the standard legal name and address of the organization doing business with the government. The use of the Universal Identifier will also make it possible to create a unified, simplified, government-wide grant application and report submission mechanism.

Use of the DUNS number as the Universal Identifier for grants-related business transactions will provide the public with a uniform business practice since the DUNS is already in use by those entities seeking Federal contracts. Furthermore, use of a Universal Identifier will enable applicants and grantees to carry out authenticated and secure electronic interactions with the Federal Government. For Federal agencies, grantee use of the Universal Identifier can facilitate an analysis of grant applications and awards across agencies.

The E-Grants system will be one means of implementing the requirement for a DUNS number for the Federal grant process. Applicants submitting paper applications will also be required to include a DUNS number.

OMB is working to ensure that the Federal Assistance Awards Data System (FAADS) database, the government-wide grant payment systems, and the Federal Audit Clearinghouse (FAC) database will incorporate the Universal Identifier and make grant information more accessible and usable for the public. OMB plans to require use of a Universal Identifier by October 1, 2003 (which is the planned implementation date of the E-Grants Application process, E-APPLY), contingent on the results of our review of the public comments received in connection with this proposed policy.

DUNS Number

Many entities already hold a D&B DUNS number. For those organizations that do not already have a DUNS number, the number is easily obtained by telephone or via the Internet (http://www.dunandbradstreet.com). The DUNS number will be assigned by D&B upon request at no charge to the requestor. About 10-12 data elements are required for D&B to assign a DUNS number. Data elements include business name(s), address, telephone numbers, ownership information, legal structure of business, primary line of business, and the number of employees.

Request for Comment

OMB seeks comment from the affected public on the proposal to require use of the DUNS number to conduct grants business with the Federal Government. Questions that you should address include: Are there any barriers that preclude organizations or entities from obtaining a DUNS number by the planned October 1, 2003, implementation date of the E-Grants application process (E-APPLY)? When this requirement is adopted, what outreach and education for the applicant community will be necessary to increase awareness of the requirement for DUNS numbers? What additional barriers or problems could result, if the proposed DUNS number requirement is expanded to require sub-recipients to obtain a DUNS number? Does the policy statement which follows provide sufficient information about the requirement to use a DUNS number?

Dated: October 17, 2002.
Joseph L. Kull,
Deputy Controller.

Proposed OMB Policy Directive

To the Heads of Executive Departments and Establishments

Subject: Requirement for Use of a Universal Identifier by Grant Applicants.

1. Purpose. This policy directive establishes the requirement for any applicant for Federal funds under a grant program to obtain a Dun and Bradstreet (D&B) Data Universal Numbering System (DUNS) number for use as the applicant's Universal Identifier.

2. Authority. This policy directive is part of the implementation of the Federal Financial Assistance Management Improvement Act of 1999 (Public Law 106-107).

3. Background. Public Law 106-107 requires the Office of Management and Budget (OMB) to direct, coordinate, and assist Executive Branch departments and agencies in establishing an interagency process to streamline and simplify Federal financial assistance procedures for non-Federal entities. It also requires each executive agency to develop, submit to the Congress, and implement a plan for the streamlining and simplification effort that “allows applicants to electronically apply for, and report on the use of, funds from the Federal financial assistance program administered by the agency. . .”.

In response to that requirement, the Federal Government is in the process of developing an electronic standard grant application process under an E-Grants system, which requires each applicant to be uniquely identified by a Universal Identifier. The identifier will be used for grant status tracking purposes and as a source of business information pertaining to the applicant. Use of the Universal Identifier will enable applicants and grantees to carry out authenticated and secure electronic interactions with the Federal Government. Use of the DUNS number as the Universal Identifier for grants-related business transactions will provide the public with a uniform business practice since the DUNS is already in use by those entities seeking Federal contracts.

4. Policy. Applicants for Federal funds under any grant program administered by Federal agencies shall seek and obtain a Dun and Bradstreet (D&B) Data Universal Numbering System (DUNS) number for use as the Universal Identifier. A DUNS number is required for any applicant to make use of the E-Grants system. Applicants submitting paper applications are also required to include a DUNS number as their Universal Identifier. The policy does not apply to individuals applying for direct assistance under Federal programs.

5. Responsibilities.

a. Agency Responsibilities. Executive Branch departments and agencies:

(1) Must issue any needed direction to offices that award grants and cooperative agreements to implement this policy.

(2) Shall also direct recipients to initiate actions to obtain a DUNS number. The number is easily obtained by telephone or via the Internet (http://www.dunandbradstreet.com).

b. OMB Responsibilities. The Office of Management and Budget will update this policy letter as needed, based on recommendations from interagency work groups.

6. Information Contact. Direct any questions regarding this policy directive to Sandra Swab, OFFM, 202-395-5642 (direct) or 202-395-3993 (main office).

7. Effective Date. The policy directive is effective 30 days after issuance. All implementing actions other than regulatory revisions must be completed by the Executive departments and agencies within 6 months of issuance, and no later than October 1, 2003, when applicants and grantees must begin using the Universal Identifier.

Date:

Controller

[FR Doc. 02-27542 Filed 10-29-02; 8:45 am]

BILLING CODE 3110-01-P